DEPARTMENT OF THE INTERIOR

Fish and Wildlife Service

Issuance of Two Permits for Incidental Take of a Threatened Species to the Cedar City Corporation and the Paiute Indian Tribe in Iron County, UT

AGENCY: Fish and Wildlife Service, Interior.

ACTION: Notice; issuance of permit.

SUMMARY: This document provides notice that we, the U.S. Fish and Wildlife Service, issued two permits for the incidental take of the Utah prairie dog, a threatened species, on the Cedar Ridge Golf Course and the Paiute Tribal Lands in Iron County, Utah.

ADDRESSES: Documents and other information submitted with the permit application are available for review, subject to the requirements of the Privacy Act and Freedom of Information Act, from the U.S. Fish and Wildlife Service, Utah Ecological Services Field Office, Fish and Wildlife Service, 2369 W. Orton Circle, Suite 50, West Valley City, Utah 84119.

FOR FURTHER INFORMATION CONTACT: Elise Boeke, Fish and Wildlife Biologist, Utah Field Office (see ADDRESSES), telephone (801) 975-3330.

SUPPLEMENTARY INFORMATION: On May 15, 2006, we published a notice in the Federal Register (71 FR 28048) announcing that we had received an application from the Cedar City Corporation and the Paiute Indian Tribe (Applicants), for permits to incidentally take, under section 10(a)(1)(B) of the Endangered Species Act of 1973, as amended (16 U.S.C. 1531 et seq.) (Act), the Utah prairie dog on the Cedar Ridge Golf Course and the Paiute Tribal Lands in Iron County, Utah.

On January 5, 2007, we issued permits (TE-125039-0, TE-143347-0) to the Applicants subject to certain conditions, which we listed on the permit. We issued the permits only after we determined that—(1) The Applicants applied in good faith, (2) granting the permits will not be to the disadvantage of the Utah prairie dog, and (3) issuing the permits will be consistent with the purposes and policy set forth in the Act.

Authority: The action is authorized by the Endangered Species Act of 1973, as amended (16 U.S.C. 1531 et seq.).

Dated: January 5, 2007.
Mike Stempel,
Acting Regional Director, Region 6.

[FR Doc. E7-2981 Filed 2-21-07; 8:45 am]

BILLING CODE 4310-55-P